DEPARTMENT OF AGRICULTURE

Forest Service

Superior National Forest; Minnesota; Superior National Forest School Trust Land Exchange Project; Withdrawal of Draft Environmental Impact Statement

AGENCY: Forest Service, Agriculture (USDA).

ACTION: Notice; withdrawal.

SUMMARY: The Superior National Forest is withdrawing its draft environmental impact statement (EIS) for the Superior National Forest School Trust Land Exchange Project. The Superior National Forest's decision to withdraw the draft EIS is based on several issues that arose with the original exchange. Through consideration of public comments and consultation from local Tribes, a variety of viewpoints on the exchange proposal were considered. These considerations informed a decision by the State of Minnesota to withdraw its request for a land exchange. Because the State of Minnesota has withdrawn their request, the draft EIS is being canceled.

FOR FURTHER INFORMATION CONTACT: Questions concerning this notice should be directed to Superior National Forest Supervisor, Thomas Hall, by phone at 218-626-4302 or by email at thomas.hall@usda.gov. Individuals who use telecommunication devices for the deaf or hard of hearing may call the Federal Information Relay Service at 800-877-8339, 24 hours a day, every day of the year, including holidays. For more information, see the project website at https://www.fs.usda.gov/project/superior/?project=45943.

SUPPLEMENTARY INFORMATION: The original notice of intent was published in the Federal Register on August 28, 2015 (80 FR 52245), and the notice of availability for the draft EIS was published in the Federal Register on August 11, 2017 (82 FR 37583).

Dated: July 3, 2024.
Keith Lannom,
Associate Deputy Chief, National Forest System.

[FR Doc. 2024-15122 Filed 7-11-24; 8:45 am]

BILLING CODE 3411-15-P